POSTAL SERVICE

Product Change—Fulfillment Standardized Distinct Product and Non-Published Rates

AGENCY: Postal Service™.

ACTION: Notice of filing a new Fulfillment Standardized Distinct Product and Non-Published Rates product.

SUMMARY: Postal Service notice of filing a request with the Postal Regulatory Commission to establish a new Fulfillment Standardized Distinct Product and Non-Published Rates product, named FFNPR.

DATES: Date of required notice: March 7, 2025.

FOR FURTHER INFORMATION CONTACT: Elizabeth Reed, 202-268-3179.

SUPPLEMENTARY INFORMATION: The United States Postal Service hereby gives notice that on February 28, 2025, it filed with the Postal Regulatory Commission a USPS Request to Establish New Fulfillment Standardized Distinct Product and Non-Published Rates (FFNPR) and Notice of Filing Materials Under Seal. Documents are available at www.prc.gov, Docket Nos. MC2025-1201 and K2025-1201.

Helen E. Vecchione,
Attorney, Ethics & Legal Compliance.

[FR Doc. 2025-03716 Filed 3-6-25; 8:45 am]

BILLING CODE 7710-12-P